DEPARTMENT OF HEALTH AND HUMAN SERVICES

Health Resources and Services Administration

[OMB No. 0915-0307—Extension]

Agency Information Collection Activities: Submission to OMB for Review and Approval; Public Comment Request; Ryan White HIV/AIDS Program Core Medical Services Waiver Application Requirements

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than November 12, 2019.

ADDRESSES: Submit your comments, including the Information Collection Request Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION: Information Collection Request Title: Ryan White HIV/AIDS Program Core Medical Services Waiver Application Requirements, OMB No. 0915-0307—Extension.

Abstract: Title XXVI of the Public Health Service (PHS) Act, as amended by the Ryan White HIV/AIDS Treatment Extension Act of 2009, also known as the Ryan White HIV/AIDS Program (RWHAP), requires that grant recipients expend funds on core medical services including antiretroviral drugs for individuals with HIV who are eligible under the statute. In addition, after reserving statutory permissible amounts for administrative and clinical quality management costs from the total award amount, at least 75 percent of the remainder is to be expended on core medical services.¹ For a grant recipient under the RWHAP Parts A, B, or C to be exempted from this requirement, a waiver must be requested from HRSA for review and approval in accordance with statute.

¹ Sections 2604(c)(1), 2612(b)(1), and 2651(c)(1) of the PHS Act.

On October 25, 2013, HRSA published revised standards for core medical services waiver requests in the Federal Register (78 FR 63990). These revised standards allow grant recipients flexibility to adjust resource allocation based on the current situation in their local environments. These standards ensure that grant recipients receiving waivers demonstrate the availability of core medical services, including antiretroviral drugs, for persons with HIV served under the HRSA RWHAP. The core medical services waiver request process applies to RWHAP grant applicants and recipients under Parts A, B, and C of Title XXVI of the PHS Act. Core medical services waivers are effective for a 1-year period. Grant applicants may submit a waiver request before, or with the annual grant application, and grant recipients can submit up to four months after the grant award has been made.

A 60-day notice was published in the Federal Register on August 15, 2019, vol. 84, No. 158; pp. 41726-27. There were no public comments.

Need and Proposed Use of the Information: HRSA uses the documentation submitted in core medical services waiver requests to determine if the grant applicant or recipient meets the statutory requirements for waiver eligibility including: (1) No waiting lists for AIDS Drug Assistance Program services; and (2) evidence of core medical services availability within the grant recipient's jurisdiction, state, or service area to all persons with HIV identified and eligible under Title XXVI of the PHS Act.²

² Sections 2604(c)(2), 2612(b)(2), and 2651(c)(2) of the PHS Act.

Likely Respondents: Ryan White HIV/AIDS Program Parts A, B, and C grant applicants and recipients.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Waiver Request | 20 | 1 | 20 | 5.5 | 110
Total | 20 |  | 20 |  | 110

Maria G. Button,
Director, Executive Secretariat.

[FR Doc. 2019-22274 Filed 10-10-19; 8:45 am]

BILLING CODE P